DEPARTMENT OF HEALTH AND HUMAN SERVICES

Centers for Disease Control and Prevention

[Docket No. CDC-2022-0055; NIOSH-348]

World Trade Center Health Program; Request for Information

AGENCY: Centers for Disease Control and Prevention (CDC), Department of Health and Human Services (HHS).

ACTION: Request for information.

SUMMARY: The National Institute for Occupational Safety and Health (NIOSH) within the Centers for Disease Control and Prevention (CDC), an Operating Division of the Department of Health and Human Services (HHS), is soliciting public comment on the scope of an upcoming notice of funding opportunity (NOFO) for FY2023. The scope of the NOFO is the World Trade Center (WTC) Health Program's research interests in lifestyle medicine (such as sustainable health behaviors and lifestyle interventions) used to optimize management and improve outcomes of WTC-related health conditions. The WTC Health Program's research program helps answer critical questions about potential WTC-related physical and mental health conditions as well as diagnosing and treating health conditions on the List of WTC-Related Health Conditions.

DATES: Comments must be received by May 26, 2022.

ADDRESSES: Comments may be submitted through either of the following methods:

• Federal eRulemaking Portal: http://www.regulations.gov (follow the instructions for submitting comments), or

• By Mail: NIOSH Docket Office, Robert A. Taft Laboratories, MS: C-34, 1090 Tusculum Avenue, Cincinnati, Ohio 45226-1998. Attn: Docket No. CDC-2022-0055; NIOSH-348.

Instructions: All written submissions received in response to this notice must include the agency name (Centers for Disease Control and Prevention, HHS) and docket number (CDC-2022-0055; NIOSH-348) for this action. All relevant comments, including any personal information provided, will be posted without change to http://www.regulations.gov. Do not submit comments by email. CDC does not accept comments by email.

FOR FURTHER INFORMATION CONTACT: Rachel Weiss, Program Analyst, 1090 Tusculum Avenue, MS: C-46, Cincinnati, Ohio 45226; Telephone: (404) 498-2500 (this is not a toll-free number); Email NIOSHregs@cdc.gov.

SUPPLEMENTARY INFORMATION: Title I of the James Zadroga 9/11 Health and Compensation Act of 2010 (Pub. L. 111-347, as amended by Pub. L. 114-113 and Pub. L. 116-59), added Title XXXIII to the Public Health Service (PHS) Act,¹ establishing the WTC Health Program within HHS. The WTC Health Program provides medical monitoring and treatment benefits for certified health conditions on the List of WTC-Related Health Conditions ² to eligible firefighters and related personnel, law enforcement officers, and rescue, recovery, and cleanup workers who responded to the September 11, 2001, terrorist attacks in New York City, at the Pentagon, and in Shanksville, Pennsylvania (responders). The Program also provides benefits to eligible persons who were present in the dust or dust cloud on September 11, 2001, or who worked, resided, or attended school, childcare, or adult daycare in the New York City disaster area (survivors).

¹ Title XXXIII of the PHS Act is codified at 42 U.S.C. 300mm to 300mm-61. Those portions of the James Zadroga 9/11 Health and Compensation Act of 2010 found in Titles II and III of Public Law 111-347 do not pertain to the WTC Health Program and are codified elsewhere.

² The List of WTC-Related Health Conditions is established in 42 U.S.C. 300mm-22(a)(3)-(4) and 300mm-32(b); additional conditions may be added through rulemaking and the complete list is provided in WTC Health Program regulations at 42 CFR 88.15.

The Zadroga Act also requires that the Program establish a research program on health conditions resulting from the September 11, 2001, terrorist attacks, addressing the following topics:

• Physical and mental health conditions that may be related to the September 11, 2001, terrorist attacks;

• Diagnosing WTC-related health conditions for which there have been diagnostic uncertainty; and

• Treating WTC-related health conditions for which there have been treatment uncertainty.

Request for Information

Lifestyle medicine is a highly valuable, evidence-informed clinical approach focused on managing and reversing many of the types of chronic diseases certified by the WTC Health Program. By focusing on sustainable health behaviors and lifestyle factors, including six pillars—nutrition and diet, sleep hygiene, stress management and positive psychology, physical activity, social connectedness, and avoidance of substance misuse—lifestyle medicine has the potential to limit disease progression, to prevent development of additional chronic diseases, and to improve health outcomes, overall member well-being, quality of life, and member satisfaction with the Program.

To establish the scope of the WTC Health Program FY2023 lifestyle medicine research, NIOSH seeks to achieve a suitable mix of projects and interventions focusing on sustainable health behaviors and the lifestyle factors, described above. All these influence quality of life, disease progression and recurrence, survival, adverse events, and other health-related outcomes among WTC Health Program members. Specifically, NIOSH seeks input on the following questions pertaining to WTC Health Program research priorities:

(1) What are the primary lifestyle research needs of both responders and survivors?

(2) What are the primary health outcomes associated with WTC-related health conditions that lifestyle research interventions should target?

(3) What are the most important lifestyle factors (e.g., nutrition and diet, sleep hygiene, stress management and positive psychology, physical activity, social connectedness, cognitive function, and avoidance of substance misuse) that need to be addressed within the scope of the research solicitation?

John J. Howard,
Administrator, World Trade Center Health Program and Director, National Institute for Occupational Safety and Health, Centers for Disease Control and Prevention, Department of Health and Human Services.

[FR Doc. 2022-08817 Filed 4-25-22; 8:45 am]

BILLING CODE 4163-18-P